DEPARTMENT OF HEALTH AND HUMAN SERVICES

Assistant Secretary for Planning and Evaluation; Statement on Delegation of Authority

Notice is hereby given that I have delegated to the Assistant Secretary for Planning and Evaluation (ASPE), the authority vested in the Secretary to carry out activities relating to building data capacity for comparative clinical effectiveness research under 42 U.S.C. 299b-37. This authority may be re-delegated and shall be exercised in accordance with the Department's applicable policies, procedures, and guidelines. I hereby affirm and ratify any actions taken by the Assistant Secretary for Planning and Evaluation, or his or her subordinates, involving the exercise of these authorities prior to the effective date of this delegation. This delegation is effective upon date of signature.

Dated: September 26, 2014.
Sylvia M. Burwell,
Secretary.

[FR Doc. 2014-23466 Filed 10-1-14; 8:45 am]

BILLING CODE 4150-05-P